DEPARTMENT OF DEFENSE

Office of the Secretary

[Docket ID DoD-2013-OS-0183]

Privacy Act of 1974; System of Records

AGENCY: Defense Logistics Agency, DoD.

ACTION: Notice to amend a System of Records.

SUMMARY: The Defense Logistics Agency is proposing to amend a system of records in its inventory of record systems subject to the Privacy Act of 1974 (5 U.S.C. 552a), as amended.

DATES: This proposed action will be effective on September 23, 2013 unless comments are received which result in a contrary determination. Comments will be accepted on or before September 23, 2013.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kathy Dixon, DLA FOIA/Privacy Act Office, Headquarters, Defense Logistics Agency, ATTN: DGA, 8725 John J. Kingman Road, Suite 1644, Fort Belvoir, VA 22060-6221, or by phone at (703) 767-6183.

SUPPLEMENTARY INFORMATION: The Defense Logistics Agency's system of record subject to the Privacy Act of 1974 (5 U.S.C. 552a), as amended, have been published in the Federal Register and are available from the address in FOR FURTHER INFORMATION CONTACT.

The proposed changes to the record system being amended are set forth in this notice. The proposed amendment is not within the purview of subsection (r) of the Privacy Act of 1974 (5 U.S.C. 552a), as amended, which requires the submission of new or altered systems reports.

Dated: August 20, 2013.
Aaron Siegel,
Alternate OSD Federal Register Liaison Officer, Department of Defense.

S125.10

System name:

Chaplain Care and Counseling Record (July 6, 2011, 76 FR 39389).

Changes:

* * * * *

System name:

Delete entry and replace with “Chaplain Counseling Care Files.”

* * * * *

Retention and disposal:

Delete entry and replace with “Records are destroyed when no longer needed.”

* * * * *

[FR Doc. 2013-20582 Filed 8-22-13; 8:45 am]

BILLING CODE 5001-06-P